DEPARTMENT OF DEFENSE

Department of the Air Force

Air Force Real Property Agency; Exchange of Air Force Real Property for Private Land Acquisition

ACTION: Notice.

Authority: Title 10, United States Code, Section 2869(d)(1).

SUMMARY: This Notice identifies excess Federal property under the administrative jurisdiction of the United States Air Force that the Air Force intends to exchange for land beneficial to the Air Force.

FOR FURTHER INFORMATION CONTACT: Ms Diane Bailey, Air Force Real Property Agency (AFRPA), 143 Billy Mitchell Blvd., Suite 1, San Antonio, TX 78226-1816; telephone (210) 925-3076, (this telephone number is not toll-free).

SUPPLEMENTARY INFORMATION: In accordance with 10 U.S.C. Section 2869(d)(1), the Air Force is publishing this Notice to identify Federal real property that the Air Force intends to dispose of in exchange for land beneficial to the Air Force.

Description of the Air Force property: Two non-contiguous sites to Dyess Air Force Base, TX (1) a transmitter site (20 acres) (2) middle marker site (0.13 acres).

Property Number:

Status: Excess.

Comments: Transmitter site and middle marker site are composed of approximately 20.13 acres which are no longer used to support Dyess Mission. The proposal is to exchange the 20.13 acres of government land at an estimated Fair Market Value or $40,260.00 for 16 acres of privately owned land to meet the current airfield criteria for Runway Lateral Clearance and Transitional Surface criteria along the bases.

Privately owned land acquisition:

Approximately 16 acres estimated Fair Market Value of $48,000 of privately owned land adjacent to the Northwest boundary of the base.

Bao-Anh Trinh,
Air Force Federal Register Liaison Officer.

[FR Doc. E8-22767 Filed 9-26-08; 8:45 am]

BILLING CODE 5001-05-P